DEPARTMENT OF TRANSPORTATION

Federal Aviation Administration

Office of Commercial Space Transportation; Notice of Availability of the Finding of No Significant Impact (FONSI) and Record of Decision (ROD) for Issuing Launch and Reentry Licenses to Space Exploration Technologies Corp. (SpaceX) for Falcon 9 and Falcon Heavy Commercial Launch Operations at Vandenberg Air Force Base (VAFB), California

AGENCY: Federal Aviation Administration (FAA), DOT.

ACTION: Notice of availability of the FONSI and ROD.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of a FONSI/ROD, based on the analysis and findings of the U.S. Air Force's (USAF's) March 2011 Final Environmental Assessment for Falcon 9 and Falcon 9 Heavy Launch Vehicle Programs from Space Launch Complex 4 East (the EA).

FOR FURTHER INFORMATION CONTACT: Mr. Daniel Czelusniak, Environmental Specialist, Federal Aviation Administration, 800 Independence Ave., SW., Room 325, Washington, DC 20591; email Daniel.Czelusniak@faa.gov; or phone (202) 267-5924.

SUPPLEMENTARY INFORMATION: The FAA participated as a cooperating agency with USAF in the preparation of the EA, which evaluated the potential environmental impacts of operating the Falcon 9 and Falcon Heavy launch vehicle programs from Space Launch Complex-4 East (SLC-4E) at VAFB. As the Proposed Action would require Federal actions (as defined in 40 CFR § 1508.18) involving USAF and the FAA, the EA was prepared to satisfy the NEPA obligations of both agencies. USAF was the lead agency, and the FAA served as a cooperating agency because of its role in issuing licenses or permits to operate commercial launch and reentry vehicles. USAF issued a FONSI on July 11, 2011, which stated that the potential environmental impacts associated with the Proposed Action would not individually or cumulatively have a significant impact on the quality of the human environment, and therefore the preparation of an Environmental Impact Statement (EIS) was not required. The FAA has formally adopted the EA and is using the FONSI/ROD to support the issuance of launch and reentry licenses to SpaceX for Falcon 9 and Falcon Heavy commercial launch operations at VAFB.

The Proposed Action analyzed in the EA consists of SpaceX operating its Falcon 9 and Falcon Heavy launch vehicle programs to provide government and commercial space operations from SLC-4E at VAFB. The Proposed Action in the EA also includes modifications and new construction at SLC-4E to support SpaceX's launch operations. Modification and construction activities have been initiated since the EA was published. SLC-4E was previously used for the Titan IV program and has been non-operational since 2005. The FAA's Proposed Action is to issue launch and reentry licenses to SpaceX for Falcon 9 and Falcon Heavy commercial launch operations at VAFB. Alternatives analyzed as part of the FONSI/ROD include (1) the Proposed Action and (2) No Action Alternative. Under the No Action Alternative, the FAA would not issue launch or reentry licenses to SpaceX for Falcon 9 or Falcon Heavy commercial launch operations at VAFB.

Based on its independent review and consideration, the FAA issued a FONSI/ROD concurring with the analysis of impacts and findings in the EA and formally adopting the EA to support the issuance of launch and reentry licenses to SpaceX for Falcon 9 and Falcon Heavy commercial launch operations at VAFB. After reviewing and analyzing available data and information on existing conditions, potential impacts, and measures to mitigate those impacts, the FAA has determined that issuing launch and reentry licenses to SpaceX for Falcon 9 and Falcon Heavy commercial launch operations at VAFB is a Federal action that would not significantly affect the quality of the human environment within the meaning of NEPA. Therefore, the preparation of an EIS is not required, and the FAA has issued a FONSI/ROD. The FAA made this determination in accordance with all applicable environmental laws and FAA regulations.

The FAA has posted the EA and FONSI/ROD on the internet at http://www.faa.gov/about/office_org/headquarters_offices/ast/environmental/nepa_docs/review/launch/.

Issued in Washington, DC on March 26, 2013.
Daniel P. Murray,
Deputy Manager, Space Transportation Development Division.

[FR Doc. 2013-08083 Filed 4-5-13; 8:45 am]

BILLING CODE 4310-13-P